DEPARTMENT OF HOMELAND SECURITY

U.S. Customs and Border Protection

[Docket No. USCBP-2014-0005]

Advisory Committee on Commercial Operations of Customs and Border Protection (COAC)

AGENCY: U.S. Customs and Border Protection, Department of Homeland Security (DHS).

ACTION: Committee Management; Notice of Federal Advisory Committee Meeting.

SUMMARY: The Advisory Committee on Commercial Operations of Customs and Border Protection (COAC) will meet on February 20, 2014, in Washington, DC. The meeting will be open to the public.

DATES: COAC will meet on Thursday, February 20, from 1:00 p.m. to 5:00 p.m. EST. Please note that the meeting may close early if the committee has completed its business.

Pre-Registration: Meeting participants may attend either in person or via webinar after pre-registering using a method indicated below:

—For members of the public who plan to attend the meeting in person, please register either online at https://apps.cbp.gov/te_reg/index.asp?w==15; by email to tradeevents@dhs.gov; or by fax to 202-325-4290 by 5:00 p.m. EST on February 18, 2014.

—For members of the public who plan to participate via webinar, please register online at https://apps.cbp.gov/te_reg/index.asp?w=16 by 5:00 p.m. EST on February 18, 2014.

Feel free to share this information with other interested members of your organization or association.

Members of the public who are pre-registered and later require cancellation, please do so in advance of the meeting by accessing one (1) of the following links: https://apps.cbp.gov/te_reg/cancel.asp?w=15 to cancel an in person registration, or https://apps.cbp.gov/te_reg/cancel.asp?w=16 to cancel a webinar registration.

ADDRESSES: The meeting will be held at the U.S. Customs and Border Protection, Office of Training and Development Conference Space, at 1717 H Street NW., Conference Room 7300 A-C, Washington, DC 20006.

All visitors to 1717 H Street NW., must show a state-issued ID or Passport and sign in as a visitor to proceed through the security checkpoint for admittance to the building.

For information on facilities or services for individuals with disabilities or to request special assistance at the meeting, contact Ms. Wanda Tate, Office of Trade Relations, U.S. Customs and Border Protection at 202-344-1661 as soon as possible.

To facilitate public participation, we are inviting public comment on the issues to be considered by the committee prior to the formulation of recommendations as listed in the “Agenda” section below.

Comments must be submitted in writing no later than February 13, 2014, and must be identified by Docket No. USCBP-2014-0005, and may be submitted by one of the following methods:

• Federal eRulemaking Portal: http://www.regulations.gov. Follow the instructions for submitting comments.

• Email: Tradeevents@dhs.gov. Include the docket number in the subject line of the message.

• Fax: 202-325-4290

• Mail: Ms. Wanda Tate, Office of Trade Relations, U.S. Customs and Border Protection, 1300 Pennsylvania Avenue NW., Room 3.5A, Washington, DC 20229.

Instructions: All submissions received must include the words “Department of Homeland Security” and the docket number for this action. Comments received will be posted without alteration at http://www.regulations.gov, including any personal information provided. Do not submit personal information to this docket.

Docket: For access to the docket to read background documents or comments, go to http://www.regulations.gov and search for Docket Number USCBP-2014-0005. To submit a comment, see the link on the Regulations.gov Web site for “How do I submit a comment?” located on the right hand side of the main site page.

There will be multiple public comment periods held during the meeting on February 20, 2014. Speakers are requested to limit their comments to two (2) minutes or less to facilitate greater participation. Contact the individual listed below to register as a speaker. Please note that the public comment period for speakers may end before the time indicated on the schedule that is posted on the CBP Web page, http://www.cbp.gov/xp/cgov/trade/trade_outreach/coac/coac_13_meetings/, at the time of the meeting.

FOR FURTHER INFORMATION CONTACT: Ms. Wanda Tate, Office of Trade Relations, U.S. Customs and Border Protection, 1300 Pennsylvania Avenue NW., Room 3.5A, Washington, DC 20229; telephone 202-344-1440; facsimile 202-325-4290.

SUPPLEMENTARY INFORMATION: Notice of this meeting is given under the Federal Advisory Committee Act, 5 U.S.C. Appendix (Pub. L. 92-463). The COAC provides advice to the Secretary of Homeland Security, the Secretary of the Treasury, and the Commissioner of U.S. Customs and Border Protection (CBP) on matters pertaining to the commercial operations of CBP and related functions within DHS and the Department of the Treasury.

Agenda

The COAC will hear from the following project leaders and subcommittees on the topics listed below and then will review, deliberate, provide observations, and formulate recommendations on how to proceed on those topics:

1. The Trusted Trader Subcommittee: Review and discuss the subcommittee's proposed recommendations pertaining to the Customs-Trade Partnership Against Terrorism (C-TPAT) criteria for exporters. Review and discuss the action plan to establish the C-TPAT for exports component under the C-TPAT umbrella.

2. The Export Subcommittee: Review and discuss suggested revisions to specific Customs and Border Protection's export policies as well as recommendations on a Master Principles Document for a One U S. Government at the Border focused on Exports.

3. The One U.S. Government at the Border Subcommittee: Review and discuss an update on the progress of the Partner Government Agency -Message Set (PGA-MS) and potential collaboration with the Border Inter-Agency Executive Council (BIEC).

4. The Trade Enforcement and Revenue Collection Subcommittee: Review and discuss the comments from the Regulatory Audit Working Group on the final draft document on the planned enhancements for the Focused Assessment process; report out on the Intellectual Property Rights (IPR) Working Group's work to determine the feasibility of a Trusted Trader Program for IPR, the simplified seizure process for low-value shipments, and the application of the Document Imaging System for IPR purposes; and report on the Bonds Working Group's discussions on the concept of e-bonds and centralization of Single Transaction Bonds.

5. The Trade Modernization Subcommittee: Review and discuss potential recommendations addressing the Role of the Broker Working Group in the area of Broker Permits and update on the Automated Commercial Environment (ACE) Development and Deployment Schedule.

6. The Global Supply Chain Subcommittee: Review and discuss the recommendations regarding the Air Cargo Advance Screening (ACAS) pilot and address the next steps regarding land border issues in the area of Beyond the Border and 21st Century Initiatives.

Dated: January 30, 2014.
Maria Luisa Boyce,
Senior Advisor for Private Sector Engagement, Office of Trade Relations.

[FR Doc. 2014-02337 Filed 2-3-14; 8:45 am]

BILLING CODE 9111-14-P